Title 3—

The President

Proclamation 7578 of July 26, 2002

National Korean War Veterans Armistice Day, 2002

By the President of the United States of America

A Proclamation

Fifty-two years ago, armed forces from North Korea shattered the peace as they crossed the 38th Parallel and invaded South Korea. A 22-country force assembled to face this Cold War challenge, and the majority of them were Americans. The brave men and women of this coalition fought courageously to defend a population facing tyranny and aggression, and they succeeded in defeating the invading forces.

During the Korean War, approximately 1.8 million members of the United States Armed Forces fought in places such as Pork Chop Hill, Pusan Perimeter, and the Chosin Reservoir. During the intense fighting, approximately 34,000 American lives were lost in combat; 92,000 were wounded; and more than 8,000 listed as missing in action or taken prisoner. Their distinguished service reminds us of the words engraved on the Korean War Veterans Memorial in Washington—“Freedom Is Not Free.”

As we face the challenges of a new era and a new war, we look to America's Korean War veterans for their example of dedication and sacrifice in defending freedom. These men and women faced a formidable adversary and endured harsh and bitter conditions in upholding our Nation's heritage of valor, tenacity, and honor during this important stand against Communist aggression. For their gallantry in action, 131 servicemen earned our Nation's highest military award, the Medal of Honor. More than 90 of them received the award posthumously.

Forty-nine years ago, the Military Armistice Agreement ended the fighting and stopped the spread of Communism in Korea. In order to thank and honor veterans of the Korean War and their families, America will commemorate the 50th Anniversary of the Korean War through November 11, 2003. Today, as the Republic of Korea stands as a strong, democratic, and progressive nation, we thank our Korean War veterans for serving our Nation and the world with courage and distinction. These patriots advanced the principles and ideals upon which our Nation was founded, and they helped promote liberty, opportunity, and hope.

The Congress, by Public Law 104-19, as amended (36 U.S.C. 127), has designated July 27, 2002, as “National Korean War Veterans Armistice Day,” and has authorized and requested the President to issue a proclamation in observance of this day.

NOW, THEREFORE, I, GEORGE W. BUSH, President of the United States of America, do hereby proclaim July 27, 2002, as National Korean War Veterans Armistice Day. I call upon the people of the United States to observe this day with appropriate ceremonies and activities that honor and give thanks to our distinguished Korean War veterans. I also ask Federal departments and agencies and interested groups, organizations, and individuals to fly the flag of the United States at half-staff on July 27, 2002, in memory of the Americans who died as a result of their service in Korea.

IN WITNESS WHEREOF, I have hereunto set my hand this twenty-sixth day of July, in the year of our Lord two thousand two, and of the Independence of the United States of America the two hundred and twenty-seventh.

B

[FR Doc. 02-19395

Filed 7-29-02; 8:45 am]

Billing code 3195-01-P